FEDERAL MARITIME COMMISSION

[DOCKET NO. 24-09]

Notice of Filing of Complaint and Assignment; Impact Products, LLC and Safety Zone, LLC, Complainants, COSCO Shipping Lines Co., Ltd., Respondent

Served: February 14, 2024.

Notice is given that a complaint has been filed with the Federal Maritime Commission (the “Commission”) by Impact Products, LLC and Safety Zone, LLC (the “Complainants”) against COSCO Shipping Lines Co., Ltd. (the “Respondent”). Complainants state that the Commission has jurisdiction over the complaint pursuant to 46 U.S.C. 41301 through 41309 and personal jurisdiction over the Respondent as an ocean common carrier, as defined in 46 U.S.C. 40102(18), that has entered into a service contract, as defined in 46 U.S.C. 40102(21), with the Complainants. Complainant Impact Products, LLC is a corporation located in Toledo, Ohio. Complainant Safety Zone, LLC is a corporation located in Guilford, Connecticut. Complainants are shippers as this term is defined under 46 U.S.C. 40102(23).

Complainants identify Respondent as a company organized under the laws of China with its United States office located in Secaucus, New Jersey and as a global ocean carrier. Complainants allege that Respondent violated 46 U.S.C. 41102(c) and 41104(a)(10) and 46 CFR 545.5. Complainants allege these violations arose from assessment of demurrage, detention, per diem, and yard storage charges during periods of time in which the charges were not just or reasonable because of circumstances outside the control of the Complainants and its agents and service providers, and from the acts or omissions of the Respondent that led to the assessment of these charges.

An answer to the complaint must be filed with the Commission within 25 days after the date of service.

The full text of the complaint can be found in the Commission's electronic Reading Room at https://www2.fmc.gov/readingroom/proceeding/24-09/. This proceeding has been assigned to the Office of Administrative Law Judges. The initial decision of the presiding judge shall be issued by February 14, 2025, and the final decision of the Commission shall be issued by August 29, 2025.

David Eng,
Secretary.

[FR Doc. 2024-03511 Filed 2-20-24; 8:45 am]

BILLING CODE 6730-02-P